DEPARTMENT OF THE INTERIOR

NATIONAL PARK SERVICE

Gettysburg National Military Park Advisory Commission

AGENCY: National Park Service, Interior.

ACTION: Notice of meeting.

SUMMARY: This notice sets forth the date of the thirty-first meeting of the Gettysburg National Military Park Advisory Commission.

DATES: The public meeting will be held on February 16, 2000, from 7 p.m.-9 p.m.

LOCATION: The meeting will be held at Cyclorama Auditorium, 125 Taneytown Road, Gettysburg, Pennsylvania 17325.

AGENDA: Sub-Committee Reports, Federal Consistency Projects Within the Gettysburg Battlefield Historic District, Operational Update on Park Activities, Election of Officers for year 2000 and Citizens Open Forum.

FOR FURTHER INFORMATION CONTACT: John A. Latschar, Superintendent, Gettysburg National Military Park, 97 Taneytown Road, Gettysburg, Pennsylvania 17325.

SUPPLEMENTARY INFORMATION: The meeting will be open to the public. Any member of the public may file with the Commission a written statement concerning agenda items. The statement should be addressed to the Advisory Commission, Gettysburg National Military Park, 97 Taneytown Road, Gettysburg, Pennsylvania 17325. Minutes of the meeting will be available for inspection four weeks after the meeting at the permanent headquarters of the Gettysburg National Military Park located at 97 Taneytown Road, Gettysburg, Pennsylvania 17325.

Dated: January 13, 2000.
John McKenna,
Acting Superintendent, Gettysburg NMP/Eisenhower NHS.

[FR Doc. 00-1509 Filed 1-20-00; 8:45 am]

BILLING CODE 4310-70-M